DEPARTMENT OF THE INTERIOR

National Park Service

[NPS-WASO-NAGPRA-NPS0037163; PPWOCRADN0-PCU00RP14.R50000]

Notice of Intent To Repatriate Cultural Items Amendment: Animas Museum/La Plata County Historical Society, Durango, CO

AGENCY: National Park Service, Interior.

ACTION: Notice; amendment.

SUMMARY: In accordance with the Native American Graves Protection and Repatriation Act (NAGPRA), the Animas Museum/La Plata County Historical Society has amended a Notice of Intent to Repatriate published in the Federal Register on April 4, 2018. This notice amends the number of cultural items in a collection removed from San Juan County, NM.

DATES: Repatriation of the cultural items in this notice may occur on or after February 2, 2024.

ADDRESSES: Susan Jones, Museum, Collections Manager, Animas Museum/La Plata County Historical Society, 3065 W 2nd Avenue, Durango, CO 81301, telephone (970) 259-2402, email susanjones@animasmuseum.org.

SUPPLEMENTARY INFORMATION: This notice is published as part of the National Park Service's administrative responsibilities under NAGPRA. The determinations in this notice are the sole responsibility of the Animas Museum. The National Park Service is not responsible for the determinations in this notice. Additional information on the amendments and determinations in this notice, including the results of consultation, can be found in the summary or related records held by the Animas Museum.

Amendment

This notice amends the determinations published in a Notice of Intent to Repatriate in the Federal Register (83 FR 14497-14498, April 4, 2018). Repatriation of the items in the original Notice of Intent to Repatriate has not occurred. During further analysis of the artifacts in the Museum's collection, documentation was found concerning one bowl excavated by George F. Stewart from 31 archeological sites within Dolores, La Plata, and Montezuma Counties in Colorado and San Juan and Rio Arriba Counties in New Mexico was found not to have been associated with a burial. This notice amends the number of unassociated funerary objects as listed in the original notice as follows:

Between 1951 and 1971, 116 unassociated funerary objects (previously identified as 117 unassociated funerary objects) were removed from 31 archeological sites within Dolores, La Plata, and Montezuma Counties in Colorado and San Juan and Rio Arriba Counties in New Mexico. They were excavated by George F. Stewart, an amateur archeologist and private collector from La Plata County, CO, who donated most of his collection to the La Plata County Historical Society in 1978. These unassociated funerary objects are all from Ancestral Puebloan sites dating from the Basketmaker III (A.D. 500) to the Pueblo III (A.D. 1300) periods. The 116 unassociated funerary objects include 106 ceramic objects (53 bowls, 16 jars, 13 pitchers, seven seed jars, six ladles, five ollas, four pipes, and two dippers), two stone pendants, one stone pipe, one flake, one concretion, one sandstone bowl, one bone awl, one bone bead, and two unidentifiable objects.

Determinations (as Amended)

Pursuant to NAGPRA and its implementing regulations, and after consultation with the appropriate Indian Tribes and Native Hawaiian organizations, the Animas Museum has determined that:

• The 118 cultural items are reasonably believed to have been placed with or near individual human remains at the time of death or later as part of the death rite or ceremony and are believed, by a preponderance of the evidence, to have been removed from a specific burial site of a Native American individual.

• There is a relationship of shared group identity that can be reasonably traced between the cultural items in this notice and the Hopi Tribe of Arizona; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Santo Domingo Pueblo; Ysleta del Sur Pueblo; and the Zuni Tribe of the Zuni Reservation, New Mexico.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 2, 2024. If competing requests for repatriation are received, the Animas Museum must determine the most appropriate requestor prior to repatriation. Requests for joint repatriation of the cultural items are considered a single request and not competing requests. The Animas Museum is responsible for sending a copy of this notice to the Indian Tribes and Native Hawaiian organizations identified in this notice.

Authority: Native American Graves Protection and Repatriation Act, 25 U.S.C. 3003, and the implementing regulations, 43 CFR 10.8, 10.10, 10.13, and 10.14.

Dated: December 20, 2023.
Melanie O'Brien,
Manager, National NAGPRA Program.

[FR Doc. 2023-28918 Filed 1-2-24; 8:45 am]

BILLING CODE 4312-52-P